DEPARTMENT OF COMMERCE

National Oceanic and Atmospheric Administration

50 CFR Part 300

[Docket No. 130722647-4403-02]

RIN 0648-XD448

International Fisheries; Pacific Tuna Fisheries; 2014 Commercial Fishing for Pacific Bluefin Tuna Closed in the Eastern Pacific Ocean

AGENCY: National Marine Fisheries Service (NMFS), National Oceanic and Atmospheric Administration (NOAA), Commerce.

ACTION: Temporary rule; fishery closure.

SUMMARY: NMFS is closing commercial fishing for Pacific bluefin tuna in the eastern Pacific Ocean (EPO) because the catch limit is expected to be reached by the effective date of this action. This action is necessary per the intentions of the final rule (May 16, 2014), that implements the Inter-American Tropical Tuna Commission Resolution C-13-02 on conservation and management measures for Pacific bluefin tuna in the EPO.

DATES: Effective at 5 p.m. PDT, September 5, 2014 through December 31, 2014.

FOR FURTHER INFORMATION CONTACT: Mark Helvey, NMFS West Coast Region, 562-980-4040.

SUPPLEMENTARY INFORMATION: Commercial fishing for Pacific bluefin tuna in the eastern Pacific Ocean is managed, in part, under the Tuna Conventions Act of 1950 (Act), 16 U.S.C. 951-962. Under the Act, NMFS must publish regulations to carry out recommendations of the Inter-American Tropical Tuna Commission (IATTC) that have been approved by the Department of State (DOS). The United States is a member of the IATTC, which was established under the Convention for the Establishment of an Inter-American Tropical Tuna Commission signed in 1949 (Convention). The Conventions was signed to provide an international agreement to ensure the effective international conservation and management of highly migratory species of fish in the Convention Area.

The IATTC Convention Area for this action is defined to include the waters of the eastern Pacific Ocean bounded by the coast of the Americas, the 50° N. and 50° S. parallels, and the 150° W. meridian. Regulations governing fishing by U.S. vessels in accordance with the Act appear at 50 CFR part 300, subpart C. Those regulations implement recommendations of the IATTC for the conservation and management of highly migratory fish resources in the IATTC Convention Area (generally referred to as the eastern Pacific Ocean).

The IATTC has recommended, and the DOS approved, annual catch limits of Pacific bluefin tuna for U.S. commercial vessels. For calendar year 2014, the targeting, retention, transshipping, or landing of Pacific bluefin tuna by U.S. commercial vessels fishing in the IATTC Convention Area is limited to 500 metric tons (mt) in the event that the Commission-wide limit of 5,000 mt has been reached (79 FR 28448, May 16, 2014, and codified at 50 CFR 300.25). The Commission-wide limit of 5,000 mt in 2014 is for all Commission members and cooperating non-members operating in the EPO. Additionally, the regulations at 50 CFR 300.25 establish a 2014 commercial PBF catch limit of 500 mt for the U.S. fleet in the event that the Commission-wide limit of 5,000 mt is reached. NMFS received a notice from the IATTC Director on July 9, 2014 that the Commission-wide limit of 5,000 mt was estimated to have been reached.

Based on the best available information from the fishery and working with the California Department of Fish and Wildlife, NMFS monitored the catch and landings of U.S. commercial vessels fishing in the IATTC Convention Area and projected that the 500 mt catch limit for U.S. commercial vessels is expected to be reached by September 5, 2014. This is the first year that U.S. commercial fisheries have reached the 500 mt catch limit since the IATTC began actively managing Pacific bluefin fisheries in the EPO. On average, annual U.S. commercial landings for Pacific bluefin tuna have for the last ten years been less than 100 mt.

Between January 2014 and July 2014 catches remained low at an estimated 2.1 mt; however, in early August the availability of Pacific bluefin tuna in U.S. waters increased, with a corresponding increase in landings over a short period of time. With clear intent of not exceeding the 500 mt catch limit for Pacific bluefin tuna, NMFS is waiving the seven day advance notice as described in 50 CFR 300.25(h)(3). To provide as much advanced notice as practicable, NMFS has taken other steps to notify members of the fishing industry and the public that U.S. commercial fishing for Pacific bluefin tuna in the Convention Area will be closed starting on September 5, 2014, through the end of the 2014 calendar year.

During the closure, U.S. commercial fishing vessels may not target, retain on board, transship, or land Pacific bluefin tuna in the Convention Area, except as follows:

• Any Pacific bluefin tuna already on board a fishing vessel upon the effective date of the prohibitions may be retained on board, transshipped, and/or landed, to the extent authorized by applicable laws and regulations, provided that they are landed within 14 days after the prohibitions become effective, that is September 19, 2014.

• Pacific bluefin tuna caught by a commercial vessel of the United States in the Convention Area may not be transshipped to a fishing vessel unless that fishing vessel is operated in compliance with a valid permit issued under § 660.707 or § 665.801.

Classification

For the reasons set forth below, NMFS finds good cause to waive prior notice, opportunity for public comment, and a delay to the effective date for this temporary rule pursuant to 5 U.S.C. 553(b)(B) and 5 U.S.C. 553(d)(3). These procedures are impracticable and contrary to public interest. NMFS would be unable to ensure that the 2014 Pacific bluefin tuna catch limit for U.S. commercial vessels is not exceeded if the effective date for this rule were delayed. This action is based on the best available information regarding U.S. catches approaching the 500 mt limit and is necessary for the conservation and management of Pacific bluefin tuna. The 500 mt catch limit is an important mechanism for the conservation and management of Pacific bluefin tuna, and one with which the U.S. must comply to meet its international obligations.

This action is required by § 300.25(b) and is exempt from review under Executive Order 12866.

Authority: 16 U.S.C. 951-962 et seq.

Dated: September 5, 2014.
Emily H. Menashes,
Acting Director, Office of Sustainable Fisheries, National Marine Fisheries Service.

[FR Doc. 2014-21548 Filed 9-5-14; 4:15 pm]

BILLING CODE 3510-22-P